DEPARTMENT OF COMMERCE

International Trade Administration

[A-201-845]

Agreement Suspending the Antidumping Duty Investigation on Sugar From Mexico (as Amended); Final Results of 2017 Administrative Review

AGENCY: Enforcement & Compliance, International Trade Administration, Department of Commerce.

DATES: June 4, 2019.

SUMMARY: For the final results of this review the Department of Commerce (Commerce) continues to find that the selected respondents Ingenio El Higo S.A. de C.V., Ingenio Melchor Ocampo S.A. de C.V., and Zucarmex S.A. de C.V. (and its affiliates) (collectively, Grupo Zucarmex), and Ingenio San Miguel Del Naranjo S.A. de C.V. (and its affiliates) (collectively, Grupo Beta San Miguel), are in compliance with the Agreement Suspending the Antidumping Duty Investigation on Sugar from Mexico (AD Agreement), as amended on June 30, 2017 (collectively, amended AD Agreement), for the period October 1, 2017, through November 30, 2017, and that the amended AD Agreement is meeting the statutory requirements under sections 704(c) and (d) of the Tariff Act of 1930, as amended (the Act).

FOR FURTHER INFORMATION CONTACT: Sally C. Gannon or David Cordell, Enforcement & Compliance, International Trade Administration, U.S. Department of Commerce, 1401 Constitution Avenue NW, Washington, DC 20230, telephone: (202) 482-0162 or (202) 482-0408, respectively.

SUPPLEMENTARY INFORMATION:

Background

On December 20, 2018, Commerce published its Preliminary Results of the administrative review of the amended AD Agreement covering the period of review (POR) of October 1, 2017, through November 30, 2017.¹ Commerce gave interested parties an opportunity to comment on the Preliminary Results. On March 4, 2019, Commerce received a case brief from the American Sugar Coalition and its Members ² (collectively, the petitioners).³ On March 14, 2019, Commerce received a rebuttal brief from Camara Nacional de Las Industrias Azucarera y Alcoholera (Mexican Sugar Chamber), Grupo Zucarmex, and Grupo Beta San Miguel (collectively, the respondents).⁴ Also on March 15, 2019, Commerce received a rebuttal brief from the Government of Mexico (GOM).⁵

¹ See Preliminary Results of 2017 Administrative Review, 83 FR 65343 (December 20, 2018) (Preliminary Results); Sugar from Mexico: Suspension of Antidumping Duty Investigation, 79 FR 78039 (December 29, 2014) (AD Agreement); Sugar from Mexico: Amendment to the Agreement Suspending the Antidumping Duty Investigation, 82 FR 31945 (July 11, 2017) (AD Amendment).

² Members of the American Sugar Coalition are as follows: American Sugar Can League; American Sugarbeet Growers Association; American Sugar Refining, Inc.; Florida Sugar Cane League; Rio Grande Valley Sugar Growers, Inc.; Sugar Cane Growers Cooperative of Florida; and the United States Beet Sugar Association.

³ See Petitioners' Case Brief, “The Administrative Review of the Suspended Antidumping Investigation on Sugar from Mexico,” dated March 4, 2019 (Petitioners' Case Brief).

⁴ See Respondents' Rebuttal Brief, “Sugar from Mexico—Rebuttal Brief,” dated March 15, 2019 (Respondents' Rebuttal Brief).

⁵ See GOM's Rebuttal Brief, “Sugar from Mexico: Rebuttal Brief of the Government of Mexico,” dated March 15, 2019 (GOM's Rebuttal Brief).

Commerce exercised its discretion to toll all deadlines affected by the partial federal government closure from December 22, 2018, through the resumption of operations on January 29, 2019.⁶ If the new deadline falls on a non-business day, in accordance with Commerce's practice, the deadline will become the next business day. The revised deadline for the final results of this review is now May 29, 2019.

⁶ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of Review

Merchandise covered by this amended AD Agreement is typically imported under the following headings of the HTSUS: 1701.12.1000, 1701.12.5000, 1701.13.1000, 1701.13.5000, 1701.14.1000, 1701.14.5000, 1701.91.1000, 1701.91.3000, 1701.99.1010, 1701.99.1025, 1701.99.1050, 1701.99.5010, 1701.99.5025, 1701.99.5050, and 1702.90.4000. The tariff classification is provided for convenience and customs purposes; however, the written description of the scope of this amended AD Agreement is dispositive.⁷

⁷ For a complete description of the Scope of the Suspension Agreement, see Memorandum from P. Lee Smith, Deputy Assistant Secretary for Policy and Negotiations for Enforcement and Compliance: “Issues and Decision Memorandum for the Final Results of the Administrative Review of the Agreement Suspending the Antidumping Duty Investigation on Sugar from Mexico, as Amended, for the period October 1, 2017, through November 30, 2017, dated concurrently with this determination and hereby adopted by this notice (Issues and Decision Memorandum).

Analysis

In the Preliminary Results, we determined that the respondents selected for individual examination, Grupo Zucarmex and Grupo Beta San Miguel, were in compliance with the amended AD Agreement.

The issues raised in the case briefs and rebuttal briefs are addressed in the Issues and Decision Memorandum and the accompanying business proprietary memorandum.⁸ The issues are identified in the Appendix to this notice. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://trade.gov/enforcement/frn/index.html. The signed Issues and Decision Memorandum and electronic versions of the Issues and Decision Memorandum are identical in content.

⁸ See Issues and Decision Memorandum; Memorandum from P. Lee Smith entitled “Summary of Proprietary Information in the Issues and Decisions Memorandum for the Final Results of the Administrative Review for the Agreement Suspending the Antidumping Duty Investigation on Sugar from Mexico, as Amended, for the period October 1, 2017, through November 30, 2017.”

Notification to Interested Parties

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these results in accordance with sections 751(a)(1) and 777(i)(1) of the Act and 19 CFR 351.213 and 19 CFR 351.221(b)(5).

Dated: May 29, 2019.
Jeffrey I. Kessler,
Assistant Secretary for Enforcement and Compliance.

Appendix I

Issues and Decision Memorandum

I. Summary

II. Scope of the Review

III. Background

IV. Discussion of the Issues

Issue 1: Alleged Violations of the Amended AD Agreement

A. Alleged Violations With Respect to Certain Sales

B. Erroneous Categorizations of Sales

C. Compliance With Mathematical Requirements in the Amended AD Agreement

Issue 2: Enforcement of the Amended AD Agreement

[FR Doc. 2019-11602 Filed 6-3-19; 8:45 am]

BILLING CODE 3510-DS-P